DEPARTMENT OF COMMERCE

International Trade Administration

[A-523-808]

Certain Steel Nails From the Sultanate of Oman: Notice of Court Decision Not in Harmony With the Final Results of the Antidumping Duty Administrative Review; Notice of Amended Final Results

AGENCY: Enforcement and Compliance, International Trade Administration, Department of Commerce.

SUMMARY: On January 5, 2024, the United States Court of International Trade (CIT) issued its final judgment in Oman Fasteners, LLC v. United States and Mid Continent Steel & Wire, Inc., Court No. 22-00348, Slip Op. 24-1 (CIT January 5, 2024) (Oman Fasteners Slip Op. 24-1), sustaining the U.S. Department of Commerce's (Commerce) final remand results pertaining to the antidumping duty administrative review on certain steel nails (steel nails) from the Sultanate of Oman (Oman), covering the period of review July 1, 2020, though June 30, 2021. Commerce is notifying the public that the CIT's final judgment is not in harmony with the final results of the administrative review, and that Commerce is amending its final results.

DATES: Applicable January 15, 2024.

FOR FURTHER INFORMATION CONTACT: Dakota Potts, AD/CVD Operations, Office IV, Enforcement and Compliance, International Trade Administration, U.S. Department of Commerce, 1401 Constitution Avenue NW, Washington, DC 20230; telephone: (202) 482-0223.

SUPPLEMENTARY INFORMATION:

Background

On December 22, 2022, Commerce published its final results in the 2020-2021 antidumping duty administrative review of steel nails from Oman. Commerce applied a margin based on facts available with an adverse inference to sole mandatory respondent Oman Fasteners, LLC (Oman Fasteners), because Oman Fasteners filed an untimely questionnaire response, which Commerce rejected. Oman Fasteners appealed Commerce's Final Results. On February 15, 2023, the CIT remanded the Final Results to Commerce to permit Oman Fasteners to resubmit the rejected questionnaire response and to calculate a margin based on Oman Fasteners' record information. In its final remand redetermination, issued on July 17, 2023, Commerce calculated a margin of zero percent based on Oman Fasteners' information.¹ On January 5, 2024, the CIT sustained Commerce's Final Redetermination.²

¹ See Final Results of Redetermination Pursuant to Court Remand, Oman Fasteners, LLC v. United States, Court No. 22-00348 (CIT February 15, 2023), dated July 17, 2023 (Final Redetermination), available at https://access.trade.gov/resources/remands/23-17.pdf.

² See Oman Fasteners Slip Op. 24-1.

Timken Notice

In its decision in Timken,³ as clarified by Diamond Sawblades,⁴ the U.S. Court of Appeals for the Federal Circuit held that, pursuant to section 516A(c) and (e) of the Tariff Act of 1930, as amended (the Act), Commerce must publish a notice of a court decision that is not “in harmony” with a Commerce determination and must suspend liquidation of entries pending a “conclusive” court decision. The CIT's January 5, 2024, judgment constitutes a final decision of the CIT that is not in harmony with Commerce's Final Results. This notice is published in fulfillment of the publication requirements of Timken.

³ See Timken Co. v. United States, 893 F.2d 337 (Fed. Cir. 1990) (Timken).

⁴ See Diamond Sawblades Mfrs. Coal. v. United States, 626 F.3d 1374 (Fed. Cir. 2010) (Diamond Sawblades).

Amended Final Results

Because there is now a final court judgment, Commerce is amending its Final Results with respect to Oman Fasteners' weighted-average dumping margin as follows:

Producer and exporter | Weighted average dumping margin (percent)
Oman Fasteners, LLC | 0.00

Cash Deposit Requirements

Because Oman Fasteners has a superseding cash deposit rate, i.e., there have been final results published in a subsequent administrative review, we will not issue revised cash deposit instructions to U.S. Customs and Border Protection (CBP). This notice will not affect the current cash deposit rate.

Liquidation of Suspended Entries

The CIT's ruling was appealed on January 8, 2024.⁵ In the event the CIT's ruling is upheld by a final and conclusive court decision, where an import-specific ad valorem assessment rate is zero or de minimis,⁶ Commerce intends to instruct CBP to liquidate the appropriate entries without regard to antidumping duties.

⁵ See Oman Fasteners Slip Op. 24-1, appeal docketed, No. 2024-1350 (Fed. Cir. January 8, 2024).

⁶ See 19 CFR 351.106(c)(2).

Notification to Interested Parties

This notice is issued and published in accordance with sections 516A(c) and (e), and 777(i)(1) of the Act.

Dated: March 6, 2024.
Ryan Majerus,
Deputy Assistant Secretary for Policy and Negotiations, performing the non-exclusive functions and duties of the Assistant Secretary for Enforcement and Compliance.

[FR Doc. 2024-05173 Filed 3-11-24; 8:45 am]

BILLING CODE 3510-DS-P